DEPARTMENT OF ENERGY

Federal Energy Regulatory Commission

[Project No. 67-126]

Southern California Edison Company; Notice of Application for Amendment of License and Soliciting Comments, Motions To Intervene, and Protests

Take notice that the following hydroelectric application has been filed with the Commission and is available for public inspection:

a. Application Type: Request for temporary variance of the minimum reservoir elevation requirement for Shaver Lake Reservoir, pursuant to Article 37 (c) of the Big Creek No. 2A and No. 8 Hydroelectric Project.

b. Project No.: 67-126.

c. Date Filed: August 8, 2011.

d. Applicant: Southern California Edison Company.

e. Name of Project: Big Creek No. 2A and No. 8 Hydroelectric Project (P-67)

f. Location: The Big Creek No. 2A and No. 8 Hydroelectric Project is located on various streams which are tributaries of the San Joaquin River in Fresno County, California. The project occupies federal lands within the Sierra National Forest.

g. Filed Pursuant to: Federal Power Act, 16 U.S.C. 791(a)-825(r)

h: Applicant Contact: Mr. Michael Murphy, Southern California Edison Company, P.O. Box 100, Big Creek, California 93605, Tel: (559) 893-2033, Micheal.murphy@sce.com.

i. FERC Contact: Kelly Houff, (202) 502-6393, Kelly.Houff@ferc.gov.

j. Deadline for filing comments, motions to intervene, and protests: 15 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-67-126) on any documents or motions filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Southern California Edison Company requests a temporary variance of its minimum reservoir elevation requirement of Shaver Lake, pursuant to Article 37 (c) of the license. Southern California Edison requests to completely dewater the Shaver Lake Reservoir from October 1, 2011 to April 30, 2012, to facilitate the installation of a geomembrane liner on the bottom half of the upstream face of Shaver Dam. Southern California Edison Company proposes to drain Shaver Lake to natural stream flow by way of the low level outlet valve on the dam and tunnel five through Powerhouse No. 2A. The millpond cofferdam used when Shaver Lake was filled in 1927 may be used to impound some water but because it is so old, inflatable cofferdams will be used if necessary to insure the construction site remains dewatered.

Southern California Edison Company states in its temporary variance request that as the lake is drawn down, daily inspections will be performed to determine the impact on fish species as well as conducting fish rescues if stranding is found. Once lake levels have stabilized, a qualified biologist will survey the area four times as week to collect and record any fish mortality. Any fish mortality that occurred during the dewatering of the lake will be replaced.

l. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Dated: September 8, 2011.
Kimberly D. Bose,
Secretary.

[FR Doc. 2011-23637 Filed 9-14-11; 8:45 am]

BILLING CODE 6717-01-P